FEDERAL RESERVE SYSTEM

Formations of, Acquisitions by, and Mergers of Bank Holding Companies; Correction

This notice corrects a notice (FR Doc. E7-20421) published on pages 58853 and 58854 of the issue for Wednesday, October 17, 2007.

Under the Federal Reserve Bank of Dallas heading, the entry for The Jarrel Morris Jones Family, LLC, Tulsa, Oklahoma, is revised to read as follows:

A. Federal Reserve Bank of Kansas City (Todd Offenbacker, Assistant Vice President) 925 Grand Avenue, Kansas City, Missouri 64198-0001:

1. The Jarrel Morris Jones Family, LLC, to become a bank holding company by acquiring 35.4 percent of the voting shares of Triad Bancshares, Inc., and thereby indirectly acquire voting shares of Triad Bank, National Association, all of Tulsa, Oklahoma.

Comments on this application must be received by November 13, 2007.

Board of Governors of the Federal Reserve System, October 17, 2007.
Robert deV. Frierson,
Deputy Secretary of the Board.

[FR Doc. E7-20764 Filed 10-22-07; 8:45 am]

BILLING CODE 6210-01-S